DEPARTMENT OF LABOR

Occupational Safety and Health Administration

[Docket No. OSHA-2009-0038]

Federal Advisory Council on Occupational Safety and Health

AGENCY: Occupational Safety and Health Administration (OSHA), Labor.

ACTION: Reopening of the record and extension of the nominations deadline.

SUMMARY: OSHA is reopening the record and extending the deadline for submitting nominations for membership on the Federal Advisory Council on Occupational Safety and Health (FACOSH) until March 31, 2010.

DATES: Nominations for FACOSH must be submitted (postmarked, sent, transmitted, received) by March 31, 2010.

ADDRESSES: You may submit nominations for FACOSH, identified by Docket No. OSHA-2009-0038, by any one of the following methods:

Electronically: Nominations, including attachments, may be submitted electronically at http://www.regulations.gov, the Federal eRulemaking Portal. Follow the online instructions for submitting nominations;

Facsimile: If the nomination, including attachments, does not exceed 10 pages, you may fax it to the OSHA Docket Office at (202) 693-1648;

Mail, express delivery, hand delivery, messenger or courier service: Submit three copies of nominations to the OSHA Docket Office, Docket No. OSHA-2009-0038, Room N-2625, U.S. Department of Labor, 200 Constitution Avenue, NW., Washington, DC 20210; telephone (202) 693-2350 (TTY number (877) 889-5627). Deliveries (hand, express mail, messenger and courier service) are accepted during the Department of Labor's and OSHA Docket Office's normal business hours, 8:15 a.m.-4:45 p.m., e.t.

Instructions: All nominations for FACOSH must include the agency name and docket number for this Federal Register notice (Docket No. OSHA-2009-0038). Because of security-related procedures, submitting nominations by regular mail may result in a significant delay in their receipt. Please contact the OSHA Docket Office, at the address above, for information about security procedures for submitting nominations by hand delivery, express delivery, and messenger or courier service. For additional information on submitting nominations, see 74 FR 66151.

Submissions in response to this Federal Register notice, including personal information provided, will be posted without change at http://www.regulations.gov. Therefore, OSHA cautions interested parties about submitting personal information such as social security numbers and birth dates.

Electronic copies of this Federal Register notice as well as OSHA's December 14, 2009 notice requesting nominations for FACOSH membership are available at http://www.regulations.gov. Both notices, as well as news releases and other relevant information, are also available on OSHA's webpage at http://www.osha.gov.

FOR FURTHER INFORMATION CONTACT: For press inquiries: Ms. Jennifer Ashley, OSHA, Office of Communications, U.S. Department of Labor, Room N-3647, 200 Constitution Avenue, NW., Washington, DC 20210; telephone (202) 693-1999.

For general information: Mr. Francis Yebesi, OSHA, Office of Federal Agency Programs, U.S. Department of Labor, Room N-3622, 200 Constitution Avenue, NW., Washington, DC 20210; telephone (202) 693-2122; e-mail ofap@dol.gov.

SUPPLEMENTARY INFORMATION:

OSHA is reopening the record and extending the deadline for submitting nominations for membership on FACOSH until March 31, 2010. OSHA is extending the FACOSH nominations deadline because of weather-related Federal government closures during the week preceding the deadline. For instructions and information about submitting nominations, see 74 FR 66151.

On December 14, 2009, OSHA published a Federal Register notice inviting interested parties to submit nominations for FACOSH membership by February 12, 2010 (74 FR 66151). OSHA requested nominations to fill 10 vacancies on FACOSH, five labor and five management members. Five vacancies occurred during CY 2009 and five vacancies will occur in CY 2010. The Secretary of Labor will appoint new members to two-year or three-year terms depending on whether the member will be filling a CY 2009 or CY 2010 vacancy.

FACOSH is authorized to advise the Secretary of Labor on all matters relating to the occupational safety and health of Federal employees (Occupational Safety and Health Act of 1970 (29 U.S.C. 688), 5 U.S.C. 7902, Executive Order 13446). This includes providing advice on how to reduce and keep at a minimum the number of injuries and illnesses in the Federal workforce and how to encourage the establishment and maintenance of effective occupational safety and health programs in each Federal department and agency.

Authority and Signature: David Michaels, PhD MPH, Assistant Secretary of Labor for Occupational Safety and Health, directed the preparation of this notice under the authority granted by section 19 of the Occupational Safety and Health Act of 1970 (29 U.S.C. 668), 5 U.S.C. 7902, the Federal Advisory Committee Act (5 U.S.C. App), Executive Order 13511, 29 CFR part 1960 (Basic Program Elements of for Federal Employee Occupational Safety and Health Programs), 41 CFR part 102-3, and Secretary of Labor's Order 5-2007 (72 FR 31160).

Signed at Washington, DC, this March 2, 2010.
David Michaels,
Assistant Secretary of Labor for Occupational Safety and Health.

[FR Doc. 2010-4842 Filed 3-5-10; 8:45 am]

BILLING CODE P